NATIONAL SCIENCE FOUNDATION

Notice of Intent To Seek Approval To Establish an Information Collection

AGENCY: National Science Foundation.

ACTION: Notice and request for comments.

SUMMARY: Under the Paperwork Reduction Act of 1995, Public Law 104-13 (44 U.S.C. 3501 et seq.), and as part of its continuing effort to reduce paperwork and respondent burden, the National Science Foundation (NSF) is inviting the general public or other Federal agencies to comment on this proposed information collection.

Comments: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

DATES: Written comments on this notice must be received by October 15, 2013, to be assured consideration. Comments received after that date will be considered to the extent practicable. Send comments to address below.

FOR FURTHER INFORMATION CONTACT: Ms. Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-(800) 877-8339, which is accessible 24 hours a day, 7 days a week, 365 days a year (including federal holidays).

SUPPLEMENTARY INFORMATION: Title of Collection: Computer and Information Science and Engineering Reporting Requirements.

OMB Number: 3145-NEW.

Expiration Date of Approval: Not applicable.

Type of Request: Intent to seek approval to establish an information collection.

Abstract

Proposed Project

The National Science Foundation's Directorate for Computer and Information Science and Engineering (CISE), through its Expeditions in Computing (EIC), Secure and Trustworthy Cyberspace (SaTC) Frontier, Cyber-Physical Systems (CPS) Frontier, and Future Internet Architecture (FIA) programs, supports an integrated, interdisciplinary research environment to advance fundamental computing, communications, and information science and engineering; educate a globally competitive and diverse workforce from K-12 on; and join academe and industry in partnership to achieve these goals. Projects funded through these four programs represent some of the largest single investments made by CISE and form the centerpiece of the directorate's award portfolio. Through these awards, the recipients conduct world-class research, creating new knowledge that is meaningfully linked to society.

Specifically, EIC, SaTC and CPS Frontier, and FIA projects constitute near center-scale activities that catalyze far-reaching research explorations motivated by deep scientific questions or hard problems in the computing and information fields, and/or by compelling applications that promise significant societal benefits. They stimulate significant research and education outcomes that, through effective knowledge transfer mechanisms, promise significant scientific, economic, and/or other societal benefits.

These projects foster research climates that nurture creativity and informed risk-taking, and value complementary research and education contributions such that each whole project is greater than the sum of its parts; draw upon well-integrated, diverse teams of investigators from one or more disciplines within computer and information science and engineering, as well as investigators from other fields where necessary; stimulate effective knowledge transfer; and demonstrate experimental systems or support shared experimental facilities (including instruments, platforms and/or testbeds), where necessary, to enable discovery and learning.

The EIC, SaTC and CPS Frontier, and FIA projects enable and foster excellent education, integrate research and education, speed knowledge/technology transfer through partnerships between academe and industry, and prepare a more competitive future workforce. They capitalize on diversity through participation in project activities and demonstrate leadership in the involvement of groups underrepresented in computer and information science and engineering.

Awardees will be required to submit annual project reports on progress and plans, which will be used as a basis for performance review and determining the level of continued funding. Such reporting requirements will be included as terms and conditions in the award letter.

Each project's annual report will address the reporting components specified in the Research Performance Progress Report (RPPR; http://www.nsf.gov/bfa/dias/policy/rppr/). However, the significant size and complexity of the set of awards noted above (up to $10 million per project over five years, with as many as 20 PIs and 40 students/postdocs per project across multiple institutions) warrants additional detail to ensure adequate oversight and proper stewardship of funds. Thus, in contrast to the RPPR format, there will be no length limitations for any sections of the report.

Use of the Information: The data collected will be used for NSF internal reports, historical data, performance review by peer site visit teams, program level studies and evaluations, and for securing future funding for continued maintenance and growth of the EIC, SaTC and CPS Frontiers, and FIA programs.

Estimate of Burden: 75 hours per project for 30 projects across the four programs for a total of 2250 hours plus.

Respondents: Academic institutions.

Estimated Number of Responses per Report: One from each of the 30 projects.

Dated: August 12, 2013.
Suzanne H. Plimpton,
Reports Clearance Officer, National Science Foundation.

[FR Doc. 2013-19810 Filed 8-14-13; 8:45 am]

BILLING CODE 7555-01-P